ENVIRONMENTAL PROTECTION AGENCY

[FRL-7503-6]

Adequacy Status of Motor Vehicle Budgets in Submitted State Implementation Plan for Transportation Conformity Purposes; Pennsylvania; Revised Attainment Plan for Pennsylvania Portion of the Philadelphia-Wilmington-Trenton Ozone Nonattainment Area

AGENCY: Environmental Protection Agency (EPA).

ACTION: Notice of adequacy status.

SUMMARY: EPA is announcing that the motor vehicle emission budgets (budgets) for Philadelphia, Chester, Delaware, Montgomery and Bucks Counties contained in the revised 2005 Attainment Plan (Plan) are adequate for transportation conformity purposes. The Plan was submitted to EPA by the Pennsylvania Department of Environmental Protection (PADEP) as a State Implementation Plan (SIP) revision on January 17, 2003. EPA has found that the Plan's budgets for those five counties, which comprise the Pennsylvania portion of the Philadelphia-Wilmington-Trenton Ozone Nonattainment Area, are adequate for transportation conformity purposes.

DATES: The findings that the budgets are adequate were made in a letter dated April 24, 2003 from EPA Region III to the PADEP. These adequacy findings are effective on June 12, 2003.

FOR FURTHER INFORMATION CONTACT: Larry Budney, U.S. EPA, Region III, 1650 Arch Street, Philadelphia, PA 19103 at (215) 814-2184 or by e-mail at budney.larry@epa.gov.

SUPPLEMENTARY INFORMATION: Throughout this document “we,” “ us,” or “our” refer to EPA. The word “budgets” refers to the motor vehicle emission budgets for volatile organic compounds (VOCs) and nitrogen oxides (NOX). The word “SIP” in this document refers to the revised Attainment Plan for the Pennsylvania portion of the Philadelphia-Wilmington-Trenton Ozone Nonattainment Area submitted to EPA as a SIP revision on January 17, 2003.

On March 2, 1999, the D.C. Circuit Court ruled that budgets contained in submitted SIPs cannot be used for conformity determinations until EPA has affirmatively found them adequate. On January 17, 2003, PADEP formally submitted a SIP revision to EPA consisting of a revised 2005 Attainment Plan (Plan) for the Pennsylvania portion of the Philadelphia-Wilmington-Trenton Ozone Nonattainment Area (Philadelphia, Chester, Delaware, Montgomery and Bucks Counties). On February 25, 2003, we posted the availability of the Plan and the budgets for Southeast Pennsylvania on our conformity Web site for the purpose of soliciting public comment on the adequacy of the budgets. EPA's public comment period closed on March 27, 2003. We did not receive any comments.

On April 24, 2003, EPA Region III sent a letter to PADEP that constituted final Agency action on the adequacy of the budgets contained in the Plan submitted by PADEP. That action was EPA's findings that the Plan's budgets for Philadelphia, Chester, Delaware, Montgomery and Bucks Counties are adequate for transportation conformity purposes. As a result of our April 24, 2003 findings, the revised Plan budgets contained in Pennsylvania's January 17, 2003 SIP submittal for Philadelphia, Chester, Delaware, Montgomery and Bucks Counties (the Pennsylvania portion of the Philadelphia-Wilmington-Trenton Ozone Nonattainment Area) may be used for future conformity determinations.

This is an announcement of adequacy findings that we already made on April 24, 2003. The effective date of these findings is June 12, 2003. These findings will also be announced on EPA's Web site: http://www.epa.gov/otaq/transp.htm (once there, click on the “Conformity” button). The Web site will contain a detailed analysis of our adequacy findings.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the national ambient air quality standards. The criteria by which we determine whether a SIP's budgets are adequate for conformity purposes are outlined in 40 CFR 93.118 (e) (4) through (5).

On July 28, 2000, EPA proposed (65 FR 46383) to clarify its December 16, 1999 proposal to approve or conditionally approve and disapprove in the alternative attainment demonstration SIPs for ten areas, including the Philadelphia-Wilmington-Trenton Ozone Nonattainment area, (64 FR 70317). In that proposal we stated that even though the approved SIP would contain budgets, once we found newly revised budgets based on MOBILE6 adequate, they would apply instead of the previously approved budgets. In the October 26, 2001 approval (66 FR 54143) of the attainment demonstration for the Pennsylvania portion of the Philadelphia-Wilmington-Trenton Ozone Nonattainment area we approved that proposal. Therefore, this adequacy finding will allow the replacement of the mobile budgets in the one-hour ozone SIP previously approved by EPA.

Please note that this adequacy finding for the mobile budgets for the revised SIP is separate from EPA's completeness determination of the revised SIP submission, and separate from EPA's action to approve or disapprove the revised SIP. Even though we have found these budgets adequate and they are replacing the previously approved mobile budgets, the revised mobile budgets contained in the revised SIP still have to be approved or disapproved.

Dated: May 7, 2003.
James W. Newsom,
Acting Regional Administrator, Region III.

[FR Doc. 03-13253 Filed 5-27-03; 8:45 am]

BILLING CODE 6560-50-P